DEPARTMENT OF THE INTERIOR

National Park Service

[NPS-WASO-NAGPRA-NPS0030317; PPWOCRADN0-PCU00RP14.R50000]

Notice of Inventory Completion: University of Tennessee, Department of Anthropology, Knoxville, TN, and U.S. Army Corps of Engineers, Omaha District, Omaha, NE; Correction

AGENCY: National Park Service, Interior.

ACTION: Notice; correction.

SUMMARY: The University of Tennessee, Department of Anthropology (UTK) and the U.S. Army Corps of Engineers, Omaha District (Omaha District) have corrected an inventory of human remains and associated funerary objects, published in a Notice of Inventory Completion in the Federal Register on November 8, 2019. This notice corrects the minimum number of individuals. Lineal descendants or representatives of any Indian Tribe or Native Hawaiian organization not identified in this notice that wish to request transfer of control of these human remains and associated funerary objects should submit a written request to UTK and Omaha District. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UTK and Omaha District at the address in this notice by July 27, 2020.

ADDRESSES: Dr. Robert Hinde, University of Tennessee, Office of the Provost, 527 Andy Holt Tower, Knoxville, TN 37996-0152, telephone (865) 974-2445, email rhinde@utk.edu and vpaa@utk.edu. Ms. Sandra Barnum, U.S. Army Engineer District, Omaha, ATTN: CENWO-PM-AB, 1616 Capital Avenue, Omaha, NE 68102, telephone (402) 995-2674, email sandra.v.barnum@usace.army.mil.

SUPPLEMENTARY INFORMATION: Notice is here given in accordance with the Native American Graves Protection and Repatriation Act (NAGPRA), 25 U.S.C. 3003, of the correction of an inventory of human remains and associated funerary objects under the control of the University of Tennessee, Department of Anthropology, Knoxville, TN, and the U.S. Army Corps of Engineers, Omaha District, Omaha, NE. The human remains and associated funerary objects were removed from Campbell, Corson, and Walworth Counties, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals published in a Notice of Inventory Completion in the Federal Register (84 FR 60443-60447, November 8, 2019). Additional human remains were discovered after publication of the notice. Transfer of control of the items in this correction notice has not occurred.

Correction

In the Federal Register (84 FR 60445, November 8, 2019), column 3, paragraph 1, sentence 1 is corrected by substituting the following sentence:

Between 1966 and 1969, human remains representing, at minimum, 757 individuals were removed from 39WW2, the Larson site, in Walworth County, SD, by William Bass.

In the Federal Register (84 FR 60445, November 8, 2019), column 3, paragraph 1, sentence 4 is corrected by substituting the following sentence:

The human remains belong to 411 infants and 100 children, all of indeterminate sex, 38 adolescents, and 208 adults.

In the Federal Register (84 FR 60445, November 8, 2019), column 3, paragraph 1, sentence 5 is corrected by substituting the following sentence:

Of the adolescent individuals, nine are probably male, 16 are probably female, and 13 are of indeterminate sex.

In the Federal Register (84 FR 60446, November 8, 2019), column 3, paragraph 1, sentence 1, under the heading “Determinations Made by the University of Tennessee, Department of Anthropology and the U.S. Army Corps of Engineers, Omaha District,” is corrected by substituting the following sentence:

Pursuant to 25 U.S.C. 3001(9), the human remains described in this notice represent the physical remains of 1,974 individuals of Native American ancestry.

Additional Requestors and Disposition

Lineal descendants or representatives of any Indian Tribe or Native Hawaiian organization not identified in this notice that wish to request transfer of control of these human remains and associated funerary objects should submit a written request with information in support of the request to Dr. Robert Hinde, University of Tennessee, Office of the Provost, 527 Andy Holt Tower, Knoxville, TN 37996-0152, telephone (865) 974-2445, email rhinde@utk.edu and vpaa@utk.edu; and Ms. Sandra Barnum, U.S. Army Engineer District, Omaha, ATTN: CENWO-PM-AB, 1616 Capital Avenue, Omaha, NE 68102, telephone (402) 995-2674, email sandra.v.barnum@usace.army.mil, by July 27, 2020. After that date, if no additional requestors have come forward, transfer of control of the human remains and associated funerary objects to the Three Affiliated Tribes of the Fort Berthold Reservation, North Dakota may proceed.

The University of Tennessee, Department of Anthropology and the U.S. Army Corps of Engineers, Omaha District are responsible for notifying the Three Affiliated Tribes of the Fort Berthold Reservation, North Dakota, that this notice has been published.

Dated: May 11, 2020.
Melanie O'Brien,
Manager, National NAGPRA Program.

[FR Doc. 2020-13693 Filed 6-24-20; 8:45 am]

BILLING CODE 4312-52-P